DEPARTMENT OF HEALTH AND HUMAN SERVICES

Performance Review Board Members

Title 5, U.S.C. Section 4314(c)(4) of the Civil Service Reform Act of 1978, Public Law 95-454, requires that the appointment of Performance Review Board Members be published in the Federal Register. The following persons may be named to serve on the Department of Health and Human Services' (HHS) Performance Review Boards (PRB) from 2020 through 2021. The PRB provides performance rating and rating-based compensation recommendations to the HHS Secretary based on the individual performance appraisals for Senior Executive Service, Senior Level/Senior Technical, and Title 42 executive equivalent employees and the organizational assessments of the Operating and Staff Divisions in which they serve.

Last name | First name
BARRON | PAMELA
BARRY | DANIEL
BERGERON | DEBORAH
BRATCHER BOWMAN | NIKKI
BURNSZYNSKI | JENNIFER
BUSH | LAINA
CULPEPPER | MICHAEL
DUNCAN | JAMES BLAIR
HOLLAND | HOWARD
KERR | LAWRENCE
KRETSCHMAIER | MICHON
MCDANIEL | EILEEN
NIAKAN | BAHAR
NICHOLLS | RICHARD J.
POSNACK | STEVEN
SCHUHAM | AARON
TOBIAS | CONSTANCE
TOVEN | JEFFREY
WILLIAMS | RASHEED

Dated: October 7, 2020.
Kia K. Williams,
Program Manager, Executive Performance Management and Compensation on behalf of:
Michelle Monroe,
Director, Executive Resources.

[FR Doc. 2020-22551 Filed 10-9-20; 4:15 pm]

BILLING CODE 4151-17-P